DEPARTMENT OF LABOR

Employment and Training Administration

[TA-W-72,774]

CRH North America Inc., Including On-Site Leased Workers from KForce and Global Technology Associates, Warren, Michigan; Amended Certification Regarding Eligibility To Apply for Worker Adjustment Assistance

In accordance with Section 223 of the Trade Act of 1974, as amended (“Act”), 19 U.S.C. 2273, the Department of Labor issued a Certification of Eligibility to apply for Worker Adjustment Assistance on March 11, 2010, applicable to workers of CRH North America Inc., including on-site leased workers from KForce, Warren, Michigan. The notice was published in the Federal Register April 23, 2010 (75 FR 21356).

At the request of the State Agency, the Department reviewed the certification for workers of the subject firm. The workers are engaged in activities related to research, development, and administrative services (i.e. accounting, purchasing, and sales services).

The company reports that workers leased from Global Technology Associates were employed on-site at the Warren, Michigan location of CRH North America Inc. The Department has determined that these workers were sufficiently under the control of the subject firm to be considered leased workers.

Based on these findings, the Department is amending this certification to include workers leased from Global Technology Associates working on-site at the Warren, Michigan location of CRH North America Inc.

The amended notice applicable to TA-W-72,774 is hereby issued as follows:

All workers of CRH North America Inc., including on-site leased workers from KForce and Global Technology Associates, Warren, Michigan, who became totally or partially separated from employment on or after October 14, 2008, through March 11, 2012, and all workers in the group threatened with total or partial separation from employment on date of certification through two years from the date of certification, are eligible to apply for adjustment assistance under Chapter 2 of Title II of the Trade Act of 1974, as amended.

Signed in Washington, DC, this 28th day of June 2010.
Elliott S. Kushner,
Certifying Officer, Division of Trade Adjustment Assistance.

[FR Doc. 2010-17448 Filed 7-16-10; 8:45 am]

BILLING CODE 4510-FN-P